DEPARTMENT OF HEALTH AND HUMAN SERVICES

National Institutes of Health

National Institute on Aging; Amended Notice of Meeting

Notice is hereby given of a change in the meeting of the Behavior and Social Science of Aging Review Committee, October 11, 2007, 4 p.m. to October 12, 2007, 5 p.m., Hyatt Regency Bethesda, One Bethesda Metro Center, 7400 Wisconsin Avenue, Bethesda, MD, 20814 which was published in the Federal Register on August 28, 2007, 72 FR 49287.

The meeting will be held at the Embassy Suites Hotel at the Chevy Chase Pavilion, 4300 Military Road, NW., Washington, DC 20015. The meeting is closed to the public.

Dated: August 30, 2007.
Jennifer Spaeth,
Director, Office of Federal Advisory Committee Policy.

[FR Doc. 07-4402 Filed 9-7-07; 8:45 am]

BILLING CODE 4140-01-M